DEPARTMENT OF HEALTH AND HUMAN SERVICES

National Institutes of Health

Office of the Director, National Institutes of Health; Amended Notice of Meeting

Notice is hereby given of a change in the meeting of the Council of Councils, January 29, 2021, 10:00 a.m. to 05:00 p.m., a virtual meeting, which was published in the Federal Register on November 25, 2020, 85 FR 75342.

The meeting notice is amended to change the open session meeting end time as follows: The open session will now be held from 11:00 a.m. to 3:50 p.m.

Dated: January 5, 2021.
Ronald J. Livingston, Jr.,
Program Analyst, Office of Federal Advisory Committee Policy.

[FR Doc. 2021-00221 Filed 1-8-21; 8:45 am]

BILLING CODE 4140-01-P